DEPARTMENT OF DEFENSE

Office of the Secretary

Defense Advisory Committee on Investigation, Prosecution, and Defense of Sexual Assault in the Armed Forces; Notice of Federal Advisory Committee Meeting

AGENCY: General Counsel of the Department of Defense, Department of Defense (DoD).

ACTION: Notice of Federal Advisory Committee meeting.

SUMMARY: The DoD is publishing this notice to announce that the following Federal Advisory Committee meeting of the Defense Advisory Committee on Investigation, Prosecution, and Defense of Sexual Assault in the Armed Forces will take place.

DATES: Open to the public, December 6, 2022, from 9:00 a.m. to 4:15 p.m. EST and December 7, 2022, from 8:30 a.m. to 11:30 a.m. EST.

ADDRESSES: Ritz Carlton, Pentagon City, 1250 S Hayes Street, Arlington, Virginia 22202.

FOR FURTHER INFORMATION CONTACT: Dwight Sullivan, 703-695-1055 (Voice), 703-693-3903 (Facsimile), dwight.h.sullivan.civ@mail.mil (email). Mailing address is DACIPAD, One Liberty Center, 875 N Randolph Street, Suite 150, Arlington, Virginia 22203. Website: http://dacipad.whs.mil/. The most up-to-date changes to the meeting agenda can be found on the website.

SUPPLEMENTARY INFORMATION: This meeting is being held under the provisions of the Federal Advisory Committee Act (FACA) of 1972 (5 U.S.C. Appendix, as amended), the Government in the Sunshine Act of 1976 (5 U.S.C. 552b, as amended), and 41 CFR 102-3.140 and 102-3.150.

Purpose of the Meeting: In section 546 of the National Defense Authorization Act for Fiscal Year 2015 (Pub. L. 113-291), as modified by section 537 of the National Defense Authorization Act for Fiscal Year 2016 (Pub. L. 114-92), Congress tasked the DAC-IPAD to advise the Secretary of Defense on the investigation, prosecution, and defense of allegations of rape, forcible sodomy, sexual assault, and other sexual misconduct involving members of the Armed Forces. This will be the twenty-fifth public meeting held by the DAC-IPAD. On Day 1, the DAC-IPAD will receive an overview of the military justice pre-trial process from a panel of service representatives. Next, Survivors United representatives will provide their perspectives on victims' participation in the military justice process. Next, a panel of Special Victims' Counsel and Victims' Legal Counsel will discuss their role in representing victims of crimes in the military. After lunch, a panel of service representatives will brief the Committee on the implementation of the Office of Special Trial Counsel. To close the day, the Committee will discuss the DAC-IPAD and GAO Racial Disparity Reports, receive an update from the Case Review Subcommittee, receive public comment, and adjourn the meeting. On Day 2, the Committee will receive updates from the Special Projects Subcommittee and the Policy Subcommittee, discuss and deliberate on the DAC-IPAD annual report that is due March 30, 2023, and adjourn the meeting.

Agenda: Day 1, December 6, 2022: 9:00 a.m.-9:15 a.m. Welcome and Introduction to Public Meeting; 9:15 a.m.-10:00 a.m. Uniform Code of Military Justice Pre-Trial Process Overview; 10:00 a.m.-10:45 a.m. Survivors United; 10:45 a.m.-11:00 a.m. Break; 11:00 a.m.-12:00 p.m. Special Victims' Counsel/Victims' Legal Counsel (SVC/VLC) Panel; 12:00 p.m.-1:00 p.m. Lunch; 1:00-2:30 p.m. Offices of Special Trial Counsel Panel; 2:45 p.m.-3:15 p.m. DAC-IPAD and U.S. Government Accountability Office (GAO) Racial Disparity Reports Discussion; 3:15 p.m.-4:00 p.m. Case Review Subcommittee Update; 4:00 p.m.-4:15 p.m. Public Comment; 4:15 p.m. Public Meeting Adjourned. Day 2, December 7, 2022: 8:30 a.m.-9:15 a.m. Special Projects Subcommittee Update; 9:15 a.m.-10:00 a.m. Policy Subcommittee Update; 10:00 a.m.-10:15 a.m. Break; 10:15 a.m.-11:15 a.m. Deliberations; 11:15 a.m.-11:30 a.m. Meeting Wrap-up; Preview Next Meeting; 11:30 a.m. Public Meeting Adjourned.

Meeting Accessibility: Pursuant to section 10(a)(1) of the FACA and 41 CFR 102-3.140 and 102-3.150, this meeting is open to the public. Seating is limited and is on a first-come basis. Please consult the website for any changes to the public meeting date or time.

Written Statements: Pursuant to 41 CFR 102-3.140 and section 10(a)(3) of the FACA, the public or interested organizations may submit written comments to the DAC-IPAD about its mission and topics pertaining to this public meeting. Written comments must be received by the DAC-IPAD at least five (5) business days prior to the meeting date so that they may be made available to the DAC-IPAD members for their consideration prior to the meeting. Written comments should be submitted viaemail to the DAC-IPAD at whs.pentagon.em.mbx.dacipad@mail.mil in the following formats: Adobe Acrobat or Microsoft Word. Please note that since the DAC-IPAD operates under the provisions of the FACA, all written comments will be treated as public documents and will be made available for public inspection. Oral statements from the public will be permitted, though the number and length of such oral statements may be limited based on the time available and the number of such requests. Oral statement requests must be received by the DAC-IPAD at least five (5) business days prior to the meeting date by submitting them viaemail at whs.pentagon.em.mbx.dacipad@mail.mil. Oral presentations by members of the public will be permitted from 4:00 p.m.-4:15 p.m. EST on December 6, 2022.

Dated: November 9, 2022.
Aaron T. Siegel,
Alternate OSD Federal Register Liaison Officer, Department of Defense.

[FR Doc. 2022-24864 Filed 11-14-22; 8:45 am]

BILLING CODE 5001-06-P